DEPARTMENT OF TRANSPORTATION

Federal Motor Carrier Safety Administration

[Docket No. FMCSA-2006-26367]

Motor Carrier Safety Advisory Committee Public Meeting

AGENCY: Federal Motor Carrier Safety Administration (FMCSA), DOT.

ACTION: Notice of Motor Carrier Safety Advisory Committee (MCSAC) Meeting.

SUMMARY: FMCSA announces that MCSAC will hold a committee meeting from Monday, June 20 through Wednesday, June 22, 2011. The meeting will be open to the public for its duration. The MCSAC will complete action on Task 11-01, regarding Patterns of Safety Violations by Motor Carrier Management and will begin work on Tasks 11-02, regarding Roadside violation severity weightings in the Carrier Safety Measurement System (CSMS) in FMCSA's Compliance, Safety, Accountability (CSA) program, and 11-03, regarding Oversight of the Agency's Long-Haul Cross Border Trucking Pilot Program.

TIME AND DATES: The meeting will be held on Monday and Tuesday, June 20-21, 2011, from 8:30 a.m. to 4 p.m., Eastern Time (E.T.), and on Wednesday, June 22, from 8:30 a.m. to 1 p.m., E.T. The last hour of each day will be reserved for public comment.

FOR FURTHER INFORMATION CONTACT: Ms. Shannon L. Watson, Senior Adviser to the Associate Administrator for Policy, Federal Motor Carrier Safety Administration, U.S. Department of Transportation, 1200 New Jersey Avenue, SE., Washington, DC 20590, (202) 385-2395, mcsac@dot.gov.

SUPPLEMENTARY INFORMATION:

I. Background

MCSAC

Section 4144 of the Safe, Accountable, Flexible, Efficient Transportation Equity Act: A Legacy for Users (SAFETEA-LU) (Pub. L. 109-59, 119 Stat. 1144, August 10, 2005) required the Secretary of Transportation to establish a Motor Carrier Safety Advisory Committee. The committee provides advice and recommendations to the FMCSA Administrator on motor carrier safety programs and regulations, and operates in accordance with the Federal Advisory Committee Act (5 U.S.C. App 2).

Patterns of Safety Violations Task

SAFETEA-LU Section 4133 allows the Secretary to suspend, amend, or revoke any part of a motor carrier's registration if the Secretary finds that an officer of a motor carrier engages, or has engaged, in a pattern or practice of avoiding compliance, or masking or otherwise concealing noncompliance, with the Federal Motor Carrier Safety Regulations and Hazardous Materials Regulations, while serving as an officer of any motor carrier. The section defines an officer as “an owner, director, chief executive officer, chief financial officer, safety director, vehicle maintenance supervisor, and driver supervisor of a motor carrier, regardless of title attached to these functions, and any person, however designated, exercising controlling influence over the operations of a motor carrier.” Following deliberations of the Committee, the MCSAC will submit written recommendations in the form of a report to the FMCSA Administrator on this topic following its June 2011 meeting.

Roadside Violation Severity Weightings Task

FMCSA's new compliance and enforcement program, Compliance, Safety, Accountability (CSA), includes a new measurement system to assess carriers' safety performance. One of the core purposes of the CSMS is to identify poor motor carrier safety behavior. Building upon FMCSA's previous Safety Status Measurement System (SafeStat), CSMS quantifies the on-road safety performance of carriers to identify candidates for interventions, determine the specific safety problems exhibited by a carrier and its drivers, and monitor whether safety problems are improving or worsening. FMCSA requests that MCSAC provide the CSA team with its observations and recommendations regarding the violation groups and their associated crash risk by reviewing the tables of violation groups. The Committee will designate a subcommittee to address this task and subsequently report back to the full MCSAC.

Long-Haul Cross Border Trucking Pilot Program Task

During the MCSAC's March 2011 meeting, FMCSA tasked the Committee with designating a subcommittee to provide independent monitoring for the program. The subcommittee would then report back to the full committee.

II. Meeting Participation

Oral comments from the public will be heard during the last hour of each day of this meeting. Members of the public may submit written comments on this topic by Wednesday, June 15, 2011, to Federal Docket Management System (FDMS) Docket Number FMCSA-2006-26367 using any of the following methods:

• Federal eRulemaking Portal: Go to http://www.regulations.gov. Follow the online instructions for submitting comments.

• Fax: 202-493-2251.

• Mail: Docket Management Facility; U.S. Department of Transportation, 1200 New Jersey Avenue, SE., West Building, Room WI2-140, Washington, DC 20590.

• Hand Delivery: U.S. Department of Transportation, 1200 New Jersey Avenue, SE., Room WI2-140, Washington, DC, between 9 a.m. and 5 p.m., Monday through Friday, except Federal holidays.

Issued on: June 1, 2011.
Larry W. Minor,
Associate Administrator for Policy.

[FR Doc. 2011-13899 Filed 6-3-11; 8:45 am]

BILLING CODE 4910-EX-P